INTERNATIONAL TRADE COMMISSION

[Investigation Nos. 701-TA-640, 731-TA-1480 and 731-TA-1484 (Final)]

Common Alloy Aluminum Sheet From Brazil, Greece, and Korea; Termination of Investigations

AGENCY: United States International Trade Commission.

ACTION: Notice.

SUMMARY: On March 8, 2021, the Department of Commerce published notices in the Federal Register of a negative final determination of subsidies in connection with the subject investigation concerning Brazil (86 FR 13289) and negative final determinations of sales at less-than-fair-value in connection with the subject investigations concerning Greece and Korea (86 FR 13300, 86 FR 13307). Accordingly, the countervailing duty investigation concerning common alloy aluminum sheet from Brazil (Investigation No. 701-TA-640 (Final)), the antidumping duty investigation concerning common alloy aluminum sheet from Greece (Investigation No. 731-TA-1480 (Final)), and the antidumping duty investigation concerning common alloy aluminum sheet from Korea (Investigation No. 731-TA-1484 (Final)) are terminated.

DATES: March 8, 2021.

FOR FURTHER INFORMATION CONTACT: Stamen Borisson (202-205-3125), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

Authority: These investigations are being terminated under authority of title VII of the Tariff Act of 1930 and pursuant to section 207.40(a) of the Commission's Rules of Practice and Procedure (19 CFR 207.40(a)). This notice is published pursuant to section 201.10 of the Commission's rules (19 CFR 201.10).

By order of the Commission.
Issued: March 10, 2021.
Lisa Barton,
Secretary to the Commission.

[FR Doc. 2021-05280 Filed 3-12-21; 8:45 am]

BILLING CODE 7020-02-P